NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by August 12, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-004

1. Applicant: Ted Cheeseman, Santa Cruz, CA.

Activity for Which Permit Is Requested

Waste Permit; A small expedition would use an ice strengthened yacht to transit from the Falkland Islands as close to the area near Snow Hill Island in the eastern Antarctic Peninsula region. A group of 8 expeditioners would then transit from the ice edge to Snow Hill Island. The team would camp on Snow Hill Island for one week. Activities to be conducted include: hiking, skiing, photography, wildlife viewing. Designated pollutants that would be associated with the various excursions are typically air emissions, waste water (urine, grey-water) and solid waste (food waste, human solid waste, and packaging materials). Human waste and grey water would be disposed of in the sea ice in accordance with the Environmental Protocol to the Antarctic Treaty. All other wastes would be packaged and removed to the yacht for proper disposal in the Falkland Islands at the end of the expedition.

Location

Weddell Sea, Snow Hill Island.

Dates

October 1, 2013 to October 31, 2013.

Nadene G. Kennedy,
Division of Polar Programs.

[FR Doc. 2013-16663 Filed 7-11-13; 8:45 am]

BILLING CODE 7555-01-P